DEPARTMENT OF ENERGY

Federal Energy Regulatory Commission

[Docket No. EG00-76-000, et al.]

Black River Limited Partnership, et al.; Electric Rate and Corporate Regulation Filings

March 13, 2000.

Take notice that the following filings have been made with the Commission:

1. Black River Limited Partnership

[Docket No. EG00-76-000]

Take notice that on March 7, 2000, Black River Limited Partnership filed with the Federal Energy Regulatory Commission an amendment to the Application for Determination of Exempt Wholesale Generator Status.

Copies of the application have been served upon the New York Public Service Commission, the North Carolina Utilities Commission, the South Carolina Public Service Commission and the Securities and Exchange Commission.

Comment date: April 3, 2000, in accordance with Standard Paragraph E at the end of this notice. The Commission will limit its consideration of comments to those that concern the adequacy or accuracy of the application.

2. CinCap VII, LLC

[Docket No. EG00-113-000]

Take notice that on March 8, 2000, CinCap VII, LLC (CinCap VII), with its principal office at 1100 Louisiana Street, Suite 4950, Houston, Texas 77002, submitted with the Commission an application for determination of exempt wholesale generator status pursuant to Part 365 of the Commission's regulations.

CinCap VII states that it is a limited liability company duly organized and existing under the laws of the State of Delaware. CinCap VII will be engaged directly and exclusively in the business of owning and operating three natural gas-fired peaking generation combustion turbines consisting of 132 megawatts (when operating at summer conditions) located in Cadiz, Henry County, Indiana (the Cadiz Facility). The Cadiz Facility is expected to begin commercial operations in June 2000.

CinCap VII intends to operate the Cadiz Facility as a merchant plant and sell all energy and capacity generated by the Cadiz Facility at wholesale, subject to the jurisdiction of the Commission. CinCap VII will not make any retail sales, foreign or otherwise.

Comment date: April 3, 2000, in accordance with Standard Paragraph E at the end of this notice. The Commission will limit its consideration of comments to those that concern the adequacy or accuracy of the application.

3. Dynegy Power Marketing, Inc.

[Docket No. ER94-968-031]

Take notice that on March 8, 2000, Dynegy Power Marketing, Inc. filed a quarterly report for the quarter ending December 31, 1999 for information only.

4. Cabrillo Power I LLC

[Docket No. ER00-1827-000]

Take notice that on March 7, 2000, Cabrillo Power I LLC filed a quarterly report for the quarter ending December 31, 1999.

Comment date: April 3, 2000, in accordance with Standard Paragraph E at the end of this notice.

5. ComCap VII, LLC

[Docket No. ER00-1831-000]

Take notice that on March 8, 2000, CinCap VII, LLC (CinCap VII) submitted for approval CinCap VII's Rate Schedule FERC No. 1; a Code of Conduct; a request for certain blanket approvals, including the authority to sell electricity at market-based rates and reassign transmission capacity; and a request for waiver of certain Commission regulations.

CinCap VII is a limited liability company duly organized and existing under the laws of the State of Delaware and is qualified to do business in the State of Indiana. CinCap VII is a wholly-owned subsidiary of VMC Generating Co., a Texas general partnership owned on a 50/50 basis by CinCap VIII, LLC, an indirect wholly-owned subsidiary of Cinergy Corp., and Duke Energy Trenton, LLC, an indirect wholly-owned subsidiary of Duke Energy Corp. (Duke Energy).

Comment date: March 29, 2000, in accordance with Standard Paragraph E at the end of this notice.

6. Quest Energy, L.L.C.

[Docket No. ER00-1832-000]

Take notice that on March 8, 2000, Quest Energy, L.L.C. (Quest) tendered for filing, pursuant to Rules 205 and 207 of the Federal Energy Regulatory Commission's (Commission) Rules of Practice and Procedure, 18 CFR 385.205 and 385.207, and Section 35.12 of the Commission's regulations, 18 CFR 35.12, an application for blanket authorizations and certain waivers under various regulations of the Commission, and for an order accepting its FERC Electric Rate Schedule No. 1 to be effective the earlier of May 8, 2000, or the date of a Commission order granting approval of this Rate Schedule.

Quest intends to engage in electric power and energy transactions as a marketer and a broker. In transactions where Quest purchases power, including capacity and related services from electric utilities, qualifying facilities, and independent power producers, and resells such power to other purchasers, Quest will be functioning as a marketer. In Quest's marketing transactions, Quest proposes to charge rates mutually agreed upon by the parties. In transactions where Quest does not take title to the electric power and/or energy, Quest will be limited to the role of a broker and will charge a fee for its services. Quest is not in the business of producing nor does it contemplate acquiring title to any electric power transmission facilities.

Comment date: March 29, 2000, in accordance with Standard Paragraph E at the end of this notice.

7. Arizona Public Service Company

[Docket No. ER00-1833-000]

Take notice that on March 8, 2000, Arizona Public Service Company (APS) tendered for filing a Service Agreement to provide Retail Network Integration Transmission Service under APS’ Open Access Transmission Tariff to the Salt River Project Agricultural Improvement and Power District Merchant Group (Merchant Group).

A copy of this filing has been served on the Merchant Group and the Arizona Corporation Commission.

Comment date: March 29, 2000, in accordance with Standard Paragraph E at the end of this notice.

8. CinCap VIII, LLC

[Docket No. ER00-1834-000]

Take notice that on March 8, 2000, CinCap VIII, LLC (CinCap VIII) submitted for approval CinCap VIII's Rate Schedule FERC No. 1; a Code of Conduct; a request for certain blanket approvals, including the authority to sell electricity at market-based rates and reassign transmission capacity; and a request for waiver of certain Commission regulations.

CinCap VIII is a Delaware limited liability company and is a wholly owned subsidiary of Cinergy Capital & Trading, Inc., which, in turn, is an indirect, wholly-owned subsidiary of Cinergy Corp., a Delaware corporation that is a registered public utility holding company under the Public Utility Holding Company Act of 1935, as amended.

Comment date: March 29, 2000, in accordance with Standard Paragraph E at the end of this notice.

9. Carolina Power & Light Company

[Docket No. ER00-1835-000]

Take notice that on March 8, 2000, Carolina Power & Light Company (CP&L) tendered for filing Service Agreements for Short-Term Firm Point-to-Point Transmission Service with El Paso Merchant Energy, L.P. and The Legacy Energy Group, LLC; and Service Agreements for Non-Firm Point-to-Point Transmission Service with El Paso Merchant Energy, L.P. and The Legacy Energy Group, LLC. Service to each Eligible Customer will be in accordance with the terms and conditions of Carolina Power & Light Company's Open Access Transmission Tariff.

CP&L is requesting an effective date of March 2, 2000 for each Agreement.

Copies of the filing were served upon the North Carolina Utilities Commission and the South Carolina Public Service Commission.

Comment date: March 29, 2000, in accordance with Standard Paragraph E at the end of this notice.

10. The Cincinnati Gas & Electric Company

[Docket No. ER00-1836-000]

Take notice that on March 8, 2000, The Cincinnati Gas & Electric Company tendered a Notice of Cancellation of Service Agreement No. 21 under its Electric Tariff, First Revised Volume No. 1 for service under Rate WS-S to the City of Lebanon, Ohio.

Copies of the filing were served upon the affected customer and the Public Utilities Commission of Ohio.

Comment date: March 29, 2000, in accordance with Standard Paragraph E at the end of this notice.

11. FirstEnergy Corp. and Pennsylvania Power Company

[Docket No. ER00-1837-000]

Take notice that on March 8, 2000, FirstEnergy Corp. tendered for filing on behalf of itself and Pennsylvania Power Company, a Service Agreement for Network Integration Service and an Operating Agreement for the Network Integration Transmission Service under the Pennsylvania Electric Choice Program with ACN Power, Inc. pursuant to the FirstEnergy System Open Access Tariff. These agreements will enable the parties to obtain Network Integration Service under the Pennsylvania Electric Choice Program in accordance with the terms of the Tariff.

The proposed effective date under these agreements is March 1, 2000.

Comment date: March 29, 2000, in accordance with Standard Paragraph E at the end of this notice.

12. Commonwealth Edison Company, Commonwealth Edison Company of Indiana

[Docket No. ER00-1838-000]

Take notice that on March 8, 2000, Commonwealth Edison Company and Commonwealth Edison Company of Indiana (collectively ComEd) filed to update Appendix A to Schedule 9 of ComEd's Power Sales and Reassignment of Transmission Rights Tariff (PSRT-1).

Comment date: March 29, 2000, in accordance with Standard Paragraph E at the end of this notice.

13. Virginia Electric and Power Company

[Docket No. ER00-1839-000]

Service Agreement between Sonat Power Marketing L.P. and Virginia Power for Firm Point-To-Point Transmission Service dated October 7, 1997 and approved by the FERC in a letter order on January 2, 1998 under Docket No. ER98-671-000.

Service Agreement between Sonat Power Marketing L.P. and Virginia Power for Non-Firm Point-To-Point Transmission Service dated October 27, 1997 and approved by the FERC in a letter order on January 15, 1998 under Docket No. ER98-849-000.

Virginia Power respectfully requests an effective date of the termination of February 18, 2000, as requested by El Paso Merchant Energy, L.P., successor to Sonat Power Marketing L.P.

Copies of the filing were served upon El Paso Merchant Energy, L.P., the Virginia State Corporation Commission and the North Carolina Utilities Commission.

Comment date: March 29, 2000, in accordance with Standard Paragraph E at the end of this notice.

14. Arizona Public Service Company

[Docket No. ER00-1840-000]

Take notice that on March 8, 2000, Arizona Public Service Company (APS) tendered for filing a revised Contract Demand Exhibit for Southern California Edison (SCE) applicable under the APS-FERC Rate Schedule No. 120.

Copies of this filing have been served on SCE, the California Public Utilities Commission and the Arizona Corporation Commission.

Comment date: March 29, 2000, in accordance with Standard Paragraph E at the end of this notice.

15. Otter Tail Power Company

[Docket No. ER00-1841-000]

Take notice that on March 6, 2000, Otter Tail Power Company (OTP) tendered for filing a Service Agreement between OTP and Northwestern Wisconsin Electric Co. The Service Agreement allows Northwestern Wisconsin Electric Co. to purchase capacity and/or energy under OTP's Coordination Sales Tariff.

Comment date: March 27, 2000, in accordance with Standard Paragraph E at the end of this notice.

16. Alliant Energy Corporate Services Inc.

[Docket No. ER00-1842-000]

Take notice that on March 9, 2000, Alliant Energy Corporate Services Inc. (ALTM) tendered for filing a signed Service Agreement under ALTM's Market Based Wholesale Power Sales Tariff (MR-1) between itself and NUI Energy Brokers, Inc. (NUI).

ALTM respectfully requests a waiver of the Commission's notice requirements, and an effective date of March 8, 2000.

Comment date: March 30, 2000, in accordance with Standard Paragraph E at the end of this notice.

Standard Paragraph E

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-6931 Filed 3-20-00; 8:45 am]

BILLING CODE 6717-01-P